DEPARTMENT OF COMMERCE

International Trade Administration

Antidumping or Countervailing Duty Order, Finding, or Suspended Investigation; Advance Notification of Sunset Review

AGENCY: Enforcement and Compliance, International Trade Administration, Department of Commerce.

Background

Every five years, pursuant to the Tariff Act of 1930, as amended (the Act), the U.S. Department of Commerce (Commerce) and the U.S. International Trade Commission automatically initiate and conduct reviews to determine whether revocation of an antidumping duty or countervailing duty order or termination of an investigation suspended under section 704 or 734 of the Act would be likely to lead to continuation or recurrence of dumping or a countervailable subsidy (as the case may be) and of material injury.

Upcoming Sunset Reviews for March 2026

Pursuant to section 751(c) of the Act, the following Sunset Reviews are scheduled for initiation in March 2026 and will appear in that month's Notice of Initiation of Five-Year Sunset Reviews (Sunset Review).

| Department Contact
Antidumping Duty Proceedings
Common Alloy Aluminum Sheet from Bahrain, A-525-001 (1st Review) | Thomas Martin, (202) 482-3938.
Common Alloy Aluminum Sheet from Brazil, A-351-854 (1st Review) | Thomas Martin, (202) 482-3938.
Silicon Metal from Bosnia and Herzegovina, A-893-001 (1st Review) | Thomas Martin (202) 482-3938.
Diamond Sawblades from China, A-570-900 (3rd Review) | Mary Kolberg, (202) 482-1785.
Polyvinyl Alcohol from China, A-570-879 (4th Review) | Mary Kolberg, (202) 482-1785.
Twist Ties from China, A-570-131 (1st Review) | Mary Kolberg, (202) 482-1785.
Common Alloy Aluminum Sheet from Croatia, A-891-001 (1st Review) | Thomas Martin, (202) 482-3938.
Seamless Carbon and Alloy Steel Standard, Line, and Pressure Pipe from Czech Republic, A-851-804 (1st Review) | Walter Ankner, (202) 482-8374.
Common Alloy Aluminum Sheet from Egypt, A-729-803 (1st Review) | Thomas Martin, (202) 482-3938.
Common Alloy Aluminum Sheet from Germany, A-428-849 (1st Review) | Thomas Martin, (202) 482-3938.
Silicon Metal from Iceland, A-400-001 (1st Review) | Thomas Martin, (202) 482-3938.
Common Alloy Aluminum Sheet from India, A-533-895 (1st Review) | Thomas Martin, (202) 482-3938.
Common Alloy Aluminum Sheet from Indonesia, A-560-835 (1st Review) | Thomas Martin, (202) 482-3938.
Common Alloy Aluminum Sheet from Italy, A-475-842 (1st Review) | Thomas Martin, (202) 482-3938.
Polyvinyl Alcohol from Japan, A-588-861 (4th Review) | Mary Kolberg, (202) 482-1785.
Seamless Carbon and Alloy Steel Standard, Line, and Pressure Pipe from Korea, A-580-909 (1st Review) | Walter Ankner, (202) 482-8374.
Silicon Metal from Malaysia, A-557-820 (1st Review) | Thomas Martin, (202) 482-3938.
Standard Steel Welded Wire Mesh from Mexico, A-201-853 (1st Review) | Mary Kolberg, (202) 482-1785.
Common Alloy Aluminum Sheet from Oman, A-523-814 (1st Review) | Thomas Martin, (202) 482-3938.
Seamless Carbon and Alloy Steel Standard, Line, and Pressure Pipe from Russia, A-821-826 (1st Review) | Walter Ankner, (202) 482-8374.
Common Alloy Aluminum Sheet from Romania, A-485-809 (1st Review) | Thomas Martin, (202) 482-3938.
Common Alloy Aluminum Sheet from Serbia, A-801-001 (1st Review) | Thomas Martin, (202) 482-3938.
Common Alloy Aluminum Sheet from Slovenia, A-856-001 (1st Review) | Thomas Martin, (202) 482-3938.
Common Alloy Aluminum Sheet from South Africa, A-791-825 (1st Review) | Thomas Martin, (202) 482-3938.
Common Alloy Aluminum Sheet from Spain, A-469-820 (1st Review) | Thomas Martin, (202) 482-3938.
Common Alloy Aluminum Sheet from Taiwan, A-583-867 (1st Review) | Thomas Martin, (202) 482-3938.
Common Alloy Aluminum Sheet from Türkiye, A-489-839 (1st Review) | Thomas Martin, (202) 482-3938.
Seamless Carbon and Alloy Steel Standard, Line, and Pressure Pipe from Ukraine, A-823-819 (1st Review) | Walter Ankner, (202) 482-8374.
Countervailing Duty Proceedings
Common Alloy Aluminum Sheet from Bahrain, C-525-002 (1st Review) | Mary Kolberg, (202) 482-1785.
Twist Ties from China, C-570-132 (1st Review) | Thomas Martin, (202) 482-3938.
Common Alloy Aluminum Sheet from India, C-533-896 (1st Review) | Thomas Martin, (202) 482-3938.
Silicon Metal from Kazakhstan, C-834-811 (1st Review) | Thomas Martin, (202) 482-3938.
Seamless Carbon and Alloy Steel Standard, Line, and Pressure Pipe from Korea, C-580-910 (1st Review) | Walter Ankner, (202) 482-8374.
Standard Steel Welded Wire Mesh from Mexico, C-201-854 (1st Review) | Thomas Martin, (202) 482-3938.
Phosphate Fertilizers from Morocco, C-714-001 (1st Review) | Mary Kolberg, (202) 482-1785.
Phosphate Fertilizers from Russia, C-821-825 (1st Review) | Mary Kolberg, (202) 482-1785.
Seamless Carbon and Alloy Steel Standard, Line, and Pressure Pipe from Russia, C-821-827 (1st Review) | Mary Kolberg, (202) 482-1785.
Common Alloy Aluminum Sheet from Türkiye, C-489-840 (1st Review) | Walter Ankner, (202) 482-8374.

Suspended Investigations

No Sunset Review of suspended investigations is scheduled for initiation in March 2026.

Commerce's procedures for the conduct of Sunset Reviews are set forth in 19 CFR 351.218. The Notice of Initiation of Five-Year (Sunset) Review provides further information regarding what is required of all parties to participate in Sunset Reviews.

Pursuant to 19 CFR 351.103(c), Commerce will maintain and make available a service list for these proceedings. To facilitate the timely preparation of the service lists, it is requested that those seeking recognition as interested parties to a proceeding contact Commerce in writing within 10 days of the publication of the Notice of Initiation.

Note that if Commerce receives a Notice of Intent to Participate from a member of the domestic industry within 15 days of the date of initiation, the review will continue.

Thereafter, any interested party wishing to participate in the Sunset Review must provide substantive comments in response to the notice of initiation no later than 30 days after the date of initiation. Note that Commerce has amended certain of its requirements pertaining to the service of documents in 19 CFR 351.303(f).¹ An electronically-filed document must be received successfully in its entirety via Commerce's online e-filing and document management system, Antidumping and Countervailing Duty Electronic Service System (ACCESS) by 5:00 p.m. Eastern Time on the day on which it is due. For further information on procedures for filing information with Commerce through ACCESS, refer to User Guide found at https://access.trade.gov/login.aspx.

¹ See Administrative Protective Order, Service, and Other Procedures in Antidumping and Countervailing Duty Proceedings; Final Rule, 88 FR 67069 (September 29, 2023)

In prior proceedings we have encouraged interested parties to provide an executive summary of their comments, including footnotes. In these sunset reviews, we request that interested parties provide, at the beginning of their comments, an executive summary for each issue raised in their comments. Further, we request that interested parties limit their public executive summary of each issue to no more than 450 words, not including citations. We intend to use the public executive summaries as the basis of the comment summaries included in the decision memorandum that will accompany the notice to be published in the Federal Register. Finally, we request that interested parties include footnotes for relevant citations in the public executive summary of each issue.

Notification to Interested Parties

This notice is not required by statute but is published as a service to the international trading community.

Dated: January 22, 2026.
Scot Fullerton,
Acting Deputy Assistant Secretary for Antidumping and Countervailing Duty Operations.

[FR Doc. 2026-02089 Filed 1-30-26; 8:45 am]

BILLING CODE 3510-DS-P